DEPARTMENT OF COMMERCE

National Oceanic and Atmospheric Administration

RIN 0648-XE022

Marine Mammals; File No. 19590

AGENCY: National Marine Fisheries Service (NMFS), National Oceanic and Atmospheric Administration (NOAA), Commerce.

ACTION: Notice; issuance of permit.

SUMMARY: Notice is hereby given that a permit has been issued to Terrie Williams, Ph.D., University of California at Santa Cruz, Long Marine Lab, Center for Ocean Health, 100 Shaffer Road, Santa Cruz, CA 95060, to conduct research on captive marine mammals.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: On July 28, 2015, notice was published in the Federal Register (80 FR 44938) that a request for a scientific research permit had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes research activities to compare the energetic and cardiovascular responses and diving physiology of odontocetes and pinnipeds to determine key physiological factors including captive bottlenose dolphins (Tursiops truncatus) and temporarily held non-releasable Hawaiian monk seals (Neomonachus schauinslandi) at Long Marine Lab. Additional captive marine mammals may be added through cooperative agreements with accredited zoological institutions in the U.S. Other species from rehabilitation and stranding programs in the U.S. may be added opportunistically. The permit is valid for five years from the date of issuance.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: September 15, 2015.
Julia Harrison,
Chief, Permits and Conservation Division, Office of Protected Resources, National Marine Fisheries Service.

[FR Doc. 2015-24975 Filed 10-1-15; 8:45 am]

BILLING CODE 3510-22-P